DEPARTMENT OF AGRICULTURE

Submission for OMB Review; Comment Request

February 17, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of Procurement and Property Management

Title: Procurement: Maximum Workweek—Construction Schedule.

OMB Control Number: 0505-0011.

Summary of Collection: In order to obtain goods or services such as construction services, the United States Department of Agriculture (USDA), like other Federal agencies, has established agency contracting offices to enter into Federal contracts. These offices employ contracting officers, who solicit bids or offers for work from businesses in the private sector. When USDA contracts for construction services, both the contracting officer and the contractor needs to establish a schedule for the work. The contractor needs to ensure that his weekly work schedule will not conflict with the time during which USDA may allow him access to the work site. The contracting officer needs to know when the contractor will be working in order to schedule on-site conferences, to perform quality assurance inspections, and to perform compliance checks required to enforce the Davis Bacon Act (40 U.S.C. 276a-276a-7). Such compliance checks are specifically required by the Federal Acquisition Regulations (FAR) to conduct employee interviews, to check the type of work being performed, to verify the number and pay classification of workers at the site, and to verify that posters informing workers of their rights are displayed at the site (FAR 22.406-7(b)). Contracting officers put the Maximum Workweek—Construction Schedule clause in solicitations and contracts for construction when the contractor's access to the work site may be restricted to certain times of the day or week.

Need and Use of the Information: The Office of Procurement and Property Management (OPPM) will collect information to determine when government inspectors or representatives will be needed at the site, and to schedule contractor access to the work site. The information is not collected unless the contracting officer anticipates problems with contractor access or scheduling government inspections. If the information were not collected, contracting offices would be unable to allocate contract administration resources efficiently.

Description of Respondents: Business or other for-profit.

Number of Respondents: 776.

Frequency of Responses: Reporting: On occasion.

Total Burden Hours: 194.

Office of Procurement and Property Management.

Title: Procurement: Instructions for the Preparation of Technical and Business Proposals.

OMB Control Number: 0505-0013.

Summary of Collection: In order to obtain goods or services, the United States Department of Agriculture (USDA), like other Federal agencies, has established agency contracting offices to enter into Federal contracts. These offices employ contracting officers, who use various methods to award contracts for good or services. One method, prescribed by Part 15 of the Federal Acquisition Regulation (FAR) (48 CFR) is contracting by negotiation. In contracting by negotiation, contracting officers issue solicitations to request offers for required products or services from businesses in the private sector. Together with the solicitation document, the offeror's cost proposal and its technical and business proposals constitute the offer submitted to the contracting office for evaluation and acceptance. The technical proposal, together with the offeror's pricing, is needed to select the offeror who will be awarded a contract. The Agriculture Acquisition Regulation (AGAR) (48 CFR ch.4) prescribes the provision titled Instructions for the Preparation of Technical and Business Proposals (48 CFR 452.215-71) helps an offeror preparing a proposal to address the factors on which it will be evaluated.

Need and Use of the Information: The Office of Procurement and Property Management (OPPM) will collect information to evaluate and determine the feasibility of the offeror's management, technical approach, and offered cost/price to provide the services and/or supplies required, if awarded a contract. If the information were not collected, OPPM would be unable to obtain goods and services required for its daily operations.

Description of Respondents: Business or other for-profit; not-for-profit institutions; State, Local, or Tribal Government.

Number of Respondents: 4,731.

Frequency of Responses: Reporting: On occasion.

Total Burden Hours: 151,392.

Office of Procurement and Property Management

Title: Procurement: Key Personnel Clause.

OMB Control Number: 0505-0015.

Summary of Collection: In order to obtain goods or services, the United States Department of Agriculture (USDA), like other Federal agencies, has established agency contracting offices to enter into Federal contracts. These offices employ contracting officers, who issue solicitations to request offers (proposals) for required products or services from businesses in the private sector. When USDA wishes to acquire research and development services (R&D), information technology (IT) design or support services, or advisory and assistance services, it must consider the capabilities of the personnel who the contractor assigns to the job. The contributions of certain contractor employees may be critical to the success of the work. Such employees are designated as “Key Personnel.” The Agriculture Acquisition Regulation (48 CFR ch.4) (48 CFR 437.110) and (48 CFR 452.237-74) prescribes the Key Personnel clause to collect information about key contractor personnel. The contracting officer uses the Key Personnel clause to require the contractor to inform USDA, if a key person will no longer be available to perform work on the contract. Contractors whose contracts include the key personnel clause are required to notify the contracting officer about proposed substitutions for key personnel identified in the contract.

Need and Use of the Information: The Office of Procurement and Property Management (OPPM) will collect information to determine whether the departure of a key person from the contractor's staff could jeopardize contract performance, and to determine what accommodations or remedies may be taken. If the OPPM could not obtain information about departing key personnel, it could not ensure that qualified personnel continue to perform contract work.

Description of Respondents: Business or other for-profit; non-for-profit institutions; State, Local, or Tribal Government.

Number of Respondents: 5,630.

Frequency of Responses: Reporting: On occasion.

Total Burden Hours: 5,630.

Office of Procurement and Property Management

Title: Procurement: Progress Reporting Clause.

OMB Control Number: 0505-0016.

Summary of Collection: In order to obtain goods or services, the United States Department of Agriculture (USDA), like other Federal agencies, has established agency contracting offices to enter into Federal contracts. These offices employ contracting officers, who request bids or offers for work from businesses in the private sector using solicitations. In order to administer contracts for research and development services (R&D), or for advisory and assistance services (AAS), contracting officers need information about contractor progress in performing the contracts. The Agriculture Acquisition Regulation (AGAR) (48 CFR ch.4) (48 CFR 437.270(a)) and (48 CFR 452.237-76) prescribe the Progress Reporting Clause to collect information about contractor progress. Contracting officers include the Progress Reporting Clause in R&D and AAS contracts to obtain information from the contractors about their performance.

Need and Use of the Information: The Office of Procurement and Property Management (OPPM) will collect information to compare actual progress and expenditures to anticipated performance and contractor representations on which the award was based. The information alerts the agency of technical problems; the need for additional staff resources or finding; and the probability of timely completion within the contract cost or price. If the contracting officers could not obtain progress report information, they would have to physically monitor the contractor's operation on a day to day basis throughout the performance period.

Description of Respondents: Business or other for-profit; non-for-profit institutions; State, Local, or Tribal Government.

Number of Respondents: 10,000.

Frequency of Responses: Reporting: Quarterly; monthly.

Total Burden Hours: 120,000.

Ruth Brown,
Departmental Information Collection Clearance Officer.

[FR Doc. 2010-3435 Filed 2-22-10; 8:45 am]

BILLING CODE 3410-TX-P